DEPARTMENT OF HEALTH AND HUMAN SERVICES

Centers for Medicare & Medicaid Services

42 CFR Part 405

[CMS-4064-IFC3]

RIN-0938-AM73

Medicare Program; Changes to the Medicare Claims Appeal Procedures: Correcting Amendment to a Correcting Amendment

AGENCY: Centers for Medicare & Medicaid Services (CMS), HHS.

ACTION: Correcting amendment.

SUMMARY: This correcting amendment corrects a technical error in the correcting amendment that appeared in the Federal Register, entitled “Medicare Program; Changes to the Medicare Claims Appeal Procedures: Correcting Amendment to an Interim Final Rule.”

DATES: Effective Date: This correcting amendment is effective September 26, 2005.

FOR FURTHER INFORMATION CONTACT: Arrah Tabe-Bedward, (410) 786-7129.

SUPPLEMENTARY INFORMATION:

I. Background

We have identified a technical error that appeared in a correcting amendment entitled “Medicare Program; Changes to the Medicare Claims Appeal Procedures: Correcting Amendment to an Interim Final Rule.” (70 FR 37700, June 30, 2005) In this correcting amendment, we are correcting that technical error.

II. Correction of Error

A. Technical Correction to the Regulations Text

In § 405.1020 of the regulation text, we incorrectly stated the section's title as “Time frames for deciding an appeal for a hearing before an ALJ.” It should have read, “Time and place for a hearing before an ALJ.” We correct this technical error in section B of this correcting amendment.

III. Waiver of Proposed Rulemaking

We ordinarily publish a notice of proposed rulemaking in the Federal Register to provide a period for public comment before the provisions of a rule take effect. However, we can waive this procedure if we find good cause for doing so, and incorporate a statement of this finding and the reasons for it into the rule. A finding that a notice and comment period is impracticable, unnecessary, or contrary to the public interest constitutes good cause for waiving this procedure.

We believe that it is unnecessary to seek public comment on the correction of this editorial error. Further, it is in the public's interest to correct this editorial error because it makes the section more understandable to parties pursuing Medicare appeals under these procedures. Therefore, we find good cause to waive notice and comment procedures.

(Catalog of Federal Domestic Assistance Program No. 93.778, Medical Assistance Program)

(Catalog of Federal Domestic Assistance Program No. 93.773, Medicare-Hospital Insurance; and Program No. 93.774, Medicare-Supplementary Medical Insurance Program)

Correction of Regulation Text Error

Accordingly, 42 CFR chapter IV is corrected by making the following correction to part 405:

PART 405—[CORRECTED]

1. The authority citation for part 405 continues to read as follows:

Authority: Secs. 205(a), 1102, 1861, 1862(a), 1869, 1871, 1874, 1881, and 1886(k) of the Social Security Act (42 U.S.C. 405(a), 1302, 1395x, 1395y(a), 1395ff, 1395hh, 1395kk, 1395rr and 1395ww(k)) and Sec. 353 of the Public Health Service Act (42 U.S.C. 263a).

§ 405.1020 [Corrected]

2. Section 405.1020 is amended by revising the section title to read as follows:

§ 405.1020 Time and place for a hearing before an ALJ.

* * * * *

Dated: August 16, 2005.
Ann C. Agnew,
Executive Secretary to the Department.

[FR Doc. 05-16711 Filed 8-25-05; 8:45 am]

BILLING CODE 4120-01-P